DEPARTMENT OF HOMELAND SECURITY

Federal Emergency Management Agency

[Docket ID FEMA-2019-0002; Internal Agency Docket No. FEMA-B-1931]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Douglas | Town of Castle Rock (18-08-0874P) | The Honorable Jason Gray, Mayor, Town of Castle Rock, 100 North Wilcox Street, Castle Rock, CO 80104 | Water Department, 175 Kellogg Court, Castle Rock, CO 80109 | https://msc.fema.gov/portal/ advanceSearch | Aug. 9, 2019 | 080050
Douglas | Unincorporated areas of Douglas County (18-08-0874P) | The Honorable Lora Thomas, Chair, Douglas County, Board of County Commissioners, 100 3rd Street, Castle Rock, CO 80104 | Public Works Division, 100 3rd Street, Castle Rock, CO 80104 | https://msc.fema.gov/portal/ advanceSearch. | Aug. 9, 2019 | 080049
Summit | Town of Breckenridge (18-08-0752P) | The Honorable Eric Mamula, Mayor, Town of Breckenridge, P.O. Box 168, Breckenridge, CO 80424 | Public Works Department, 1095 Airport Road, Breckenridge, CO 80424 | https://msc.fema.gov/advanceSearch | Jul. 18, 2019 | 080172
Summit | Unincorporated areas of Summit County (18-08-0752P) | The Honorable Thomas C. Davidson, Commissioner, Summit County Board of Commissioners, P.O. Box 68, Breckenridge, CO 80424 | Summit County Commons, 0037 Peak One Drive, Frisco, CO 80442 | https://msc.fema.gov/advanceSearch | Jul. 18, 2019 | 080290
Connecticut:
Hartford | Town of Avon (18-01-2151P) | Mr. Brandon Robertson, Manager, Town of Avon, 60 West Main Street, Avon, CT 06001 | Town Hall, 60 West Main Street, Avon, CT 06001 | https://msc.fema.gov/advanceSearch | Aug. 12, 2019 | 090021
New Haven | Town of Cheshire (19-01-0468P) | The Honorable Rob Oris, Jr., Chairman, Town of Cheshire Council, 84 South Main Street, Cheshire, CT 06410 | Town Hall, 84 South Main Street, Cheshire, CT 06410 | https://msc.fema.gov/advanceSearch | Aug. 9, 2019 | 090074
Florida:
Alachua | Unincorporated areas of Alachua County (19-04-0622P) | The Honorable Charles “Chuck” Chestnut, IV, Chairman, Alachua County Board of Commissioners, 12 Southeast 1st Street, Gainesville, FL 32601 | Alachua County Public Works Department, 5620 Northwest 120th Lane, Gainesville, FL 32653 | https://msc.fema.gov/advanceSearch | Aug. 21, 2019 | 120001
Manatee | Unincorporated areas of Manatee County (18-04-5230P) | The Honorable Priscilla Trace, Chair, Manatee County Board of Commissioners, 1112 Manatee Avenue West, Bradenton, FL 34205 | Manatee County Building and Development Services Department, 1112 Manatee Avenue West, Bradenton, FL 34205 | https://msc.fema.gov/advanceSearch | Jul. 31, 2019 | 120153
Monroe | City of Key West (19-04-0709P) | The Honorable Teri Johnston, Mayor, City of Key West, P.O. Box 1409, Key West, FL 33041 | City Hall, 1300 White Street, Key West, FL 33041 | https://msc.fema.gov/advanceSearch | Aug. 2, 2019 | 120168
Monroe | Unincorporated areas of Monroe County (19-04-1672P) | The Honorable Sylvia Murphy, Mayor, Monroe County Board of Commissioners, 102050 Overseas Highway, Suite 234, Key Largo, FL 33037 | Monroe County Building Department, 2798 Overseas Highway, Suite 300, Marathon, FL 33050 | https://msc.fema.gov/advanceSearch | Aug. 12, 2019 | 125129
Monroe | Village of Islamorada (19-04-1674P) | The Honorable Deb Gillis, Mayor, Village of Islamorada, 86800 Overseas Highway, Islamorada, FL 33036 | Building Department, 86800 Overseas Highway, Islamorada, FL 33036 | https://msc.fema.gov/advanceSearch | Aug. 15, 2019 | 120424
Montana: Madison | Town of Ennis (18-08-1265P) | The Honorable Blake Leavitt, Mayor, Town of Ennis, P.O. Box 147, Ennis, MT 59729 | Town Hall, 328 West Main Street, Ennis, MT 59729 | https://msc.fema.gov/advanceSearch | Aug. 16, 2019 | 300044
Pennsylvania: Somerset | Township of Elk Lick (19-03-0464P) | The Honorable Allen Green, Chairman, Township of Elk Lick, 1507 St. Paul Road, Salisbury, PA 15558 | Township Hall, 1507 St. Paul Road, Salisbury, PA 15558 | https://msc.fema.gov/advanceSearch | Oct. 7, 2019 | 422048
South Carolina: Charleston | City of Isle of Palms (19-04-1752P) | The Honorable Jimmy Carroll, Mayor, City of Isle of Palms, 1207 Palm Boulevard, Isle of Palms, SC 29451 | Building and Planning Department, 1207 Palm Boulevard, Isle of Palms, SC 29451 | https://msc.fema.gov/advanceSearch | Aug. 21, 2019 | 455416
Tennessee: Shelby | City of Germantown (18-04-6585P) | The Honorable Mike Palazzolo, Mayor, City of Germantown, 1930 South Germantown Road, Germantown, TN 38138 | Economic and Community Development Department, 1920 South Germantown Road, Germantown, TN 38138 | https://msc.fema.gov/advanceSearch | Jun. 28, 2019 | 470353
Texas:
Comal | City of New Braunfels (18-06-3030P) | The Honorable Barron Casteel, Mayor, City of New Braunfels, 550 Landa Street, New Braunfels, TX 78130 | City Hall, 550 Landa Street, New Braunfels, TX 78130 | https://msc.fema.gov/advanceSearch | Jul. 5, 2019 | 485493
Denton | City of Denton (18-06-4048P) | The Honorable Chris A. Watts, Mayor, City of Denton, 215 East McKinney Street, Suite 100, Denton, TX 76201 | Engineering Department, 901-A Texas Street, Denton, TX 76209 | https://msc.fema.gov/advanceSearch | Aug. 12, 2019 | 480194
Denton | City of Fort Worth (18-06-3549P) | The Honorable Betsy Price, Mayor, City of Fort Worth, 200 Texas Street, Fort Worth, TX 76102 | Transportation and Public Works Department, 200 Texas Street, Fort Worth, TX 76102 | https://msc.fema.gov/advanceSearch | Aug. 22, 2019 | 480596
Denton | City of Roanoke (18-06-3549P) | The Honorable Carl “Scooter” Gierisch, Jr., Mayor, City of Roanoke, 108 South Oak Street, Roanoke, TX 76262 | City Hall, 500 South Oak Street, Roanoke, TX 76262 | https://msc.fema.gov/advanceSearch | Aug. 22, 2019 | 480785
Denton | Town of Northlake (18-06-3549P) | The Honorable Peter Dewing, Mayor, Town of Northlake, 1500 Commons Circle, Suite 300, Northlake, TX 76226 | Public Works Department, 1400 FM 407, Northlake, TX 76247 | https://msc.fema.gov/advanceSearch | Aug. 22, 2019 | 480782
Denton | Town of Prosper (19-06-0890X) | The Honorable Ray Smith, Mayor, Town of Prosper, P.O. Box 307, Prosper, TX 75078 | Engineering Services Department, 409 East 1st Street, Prosper, TX 75078 | https://msc.fema.gov/advanceSearch | Aug. 22, 2019 | 480141
Tarrant | City of Arlington (18-06-3453P) | The Honorable Jeff Williams, Mayor, City of Arlington, P.O. Box 90231, Arlington, TX 76004 | City Hall, 101 West Abram Street, Arlington, TX 76010 | https://msc.fema.gov/advanceSearch | Aug. 5, 2019 | 485454
Tarrant | Unincorporated areas of Tarrant County (19-06-0403P) | The Honorable B. Glen Whitley, Tarrant County Judge, 100 East Weatherford Street, Fort Worth, TX 76196 | Tarrant County Administration Building, 100 East Weatherford Street, Fort Worth, TX 76196 | https://msc.fema.gov/advanceSearch | Jul. 26, 2019 | 480582
Williamson | City of Cedar Park (18-06-3176P) | The Honorable Corbin Van Arsdale, Mayor, City of Cedar Park, 450 Cypress Creek Road, Building 1, Cedar Park, TX 78613 | Engineering Department, 450 Cypress Creek Road, Building 1, Cedar Park, TX 78613 | https://msc.fema.gov/advanceSearch | Jul. 30, 2019 | 481282
Williamson | Unincorporated areas of Williamson County (19-06-0529P) | The Honorable Bill Gravell, Jr., Williamson County Judge, 710 South Main Street, Suite 101, Georgetown, TX 78626 | Williamson County Engineering Department, 710 South Main Street, Suite 101, Georgetown, TX 78626 | https://msc.fema.gov/advanceSearch | Jul. 22, 2019 | 481079
Utah: Carbon | City of Price (18-08-1056P) | The Honorable Michael Kourianos, Mayor, City of Price, 185 East Main Street, Price, UT 84501 | Public Works Department, 432 West 600 South, Price, UT 84501 | https://msc.fema.gov/advanceSearch | Aug. 15, 2019 | 490036

[FR Doc. 2019-10392 Filed 5-17-19; 8:45 am]

BILLING CODE 9111-12-P